DEPARTMENT OF AGRICULTURE

Forest Service

Assessment of Ecological/Social/Cultural/Economic Sustainability, Conditions, and Trends for the Gila National Forest

AGENCY: Forest Service, USDA.

ACTION: Notice of initiating the assessment phase of the Gila National Forest land management plan revision.

SUMMARY: The Gila National Forest, located in southwestern New Mexico, is initiating the forest planning process pursuant to the 2012 Forest Planning Rule. This process results in a Forest Land Management Plan which describes the strategic direction for management of forest resources for the next fifteen years on the Gila National Forest. The first phase of the process, the assessment phase, is beginning and interested parties are invited to contribute in the development of the assessment (36 CFR 219.6). The trends and conditions identified in the assessment will help in identifying the current plan's need for change, and aid in the development of plan components. The Forest hosted a series of community conversations with key stakeholders in March 2015. Additional public participation opportunities are forthcoming in the near future to discuss the assessment process—information on these opportunities and all future public participation opportunities will be made available on the Gila Plan Revision Web site (see below for the link).

DATES: A draft of the assessment report for the Gila National Forest is expected to be completed by late spring 2016 and will be posted on the following Web site at http://www.fs.usda.gov/detail/gila/home/?cid=STELPRD3828671.

The Gila National Forest is currently inviting the public to engage in a collaborative process to identify relevant information and local knowledge to be considered for the assessment. Once the assessment is completed, the Forest will initiate procedures pursuant to the 2012 Planning Rule and the National Environmental Policy Act (NEPA) to prepare a forest plan revision.

ADDRESSES: Written comments or questions concerning this notice should be addressed to Gila National Forest, Attn.: Matt Schultz, 3005 E. Camino del Bosque, Silver City, NM 88061.

FOR FURTHER INFORMATION CONTACT: Matt Schultz, Forest Planner, 575-388-8280. Individuals who use telecommunication devices for the deaf (TDD) may call the Federal Information Relay Service (FIRS) at 1-800-877-8339 between 5 a.m. and 5 p.m., Pacific Time, Monday through Friday. More information on the planning process can also be found on the Gila National Forest Web site at http://www.fs.usda.gov/detail/gila/home/?cid=STELPRD3828671.

SUPPLEMENTARY INFORMATION: The National Forest Management Act (NFMA) of 1976 requires that every National Forest System (NFS) unit develop a land management plan. On April 9, 2012, the Forest Service finalized its land management planning rule (2012 Planning Rule), which provides broad programmatic direction to National Forests and National Grasslands for developing and implementing their land management plans. Forest plans describe the strategic direction for management of forest resources for fifteen years, and are adaptive and amendable as conditions change over time.

Under the 2012 Planning Rule, the assessment of ecological, social, cultural, and economic trends and conditions is the first stage of the planning process. The second stage is a plan development and decision process guided, in part, by the National Environment Policy Act (NEPA) and includes the preparation of a draft environmental impact statement and revised Forest Plan for public review and comment, and the preparation of the final environmental impact statement and revised Forest Plan, subject to the objection process 36 CFR 219 Subpart B prior to final plan approval. The third stage of the process is monitoring and feedback, which is ongoing over the life of the revised forest plans.

With this notice, the agency invites other governments, non-governmental parties, and the public to contribute to the development of the assessment report. The assessment will rapidly evaluate existing information about relevant ecological, economic, cultural and social conditions, trends, and sustainability within the context of the broader landscape. It will help inform the planning process through the use of Best Available Scientific Information, while also taking into account other forms of knowledge, such as local information, national perspectives, and native knowledge. Lastly, the assessment provides information that will help to identify the need to change the existing 1986 plan. Public engagement as part of the assessment phase supports the development of relationships of key stakeholders throughout the plan revision process, and is an essential step to understanding current conditions, available data, and feedback needed to support a strategic, efficient planning process.

As public meetings, public review and comment periods and other opportunities for public engagement are identified to assist with the development of the forest plan revision, public announcements will be made. Notifications will be posted on the Forest's Web site at http://www.fs.usda.gov/detail/gila/home/?cid=STELPRD3828671 and information will be sent out to the Forest's mailing list. If anyone is interested in being on the Forest's mailing list to receive these notifications, please contact Matt Schultz, Forest Planner, at the mailing address identified above, or by sending an email to gilaplan@fs.fed.us. In compliance with the Freedom of Information Act (FOIA), please be advised that all information provided with your comments will become part of the public record and will be available for public inspection. This includes your name and all contact information provided.

Responsible Official

The responsible official for the revision of the land management plan for the Gila National Forest is David Warnack, acting Forest Supervisor, Gila National Forest, 3005 E. Camino del Bosque, Silver City, NM 88061.

Dated: April 24, 2015.
David Warnack
Acting Forest Supervisor.

[FR Doc. 2015-11911 Filed 5-15-15; 8:45 am]

BILLING CODE 3411-15-P